DEPARTMENT OF AGRICULTURE

Commodity Credit Corporation

7 CFR Part 1405

RIN 0560-AG94

Crop Insurance Linkage

AGENCY: Commodity Credit Corporation, USDA.

ACTION: Final rule.

SUMMARY: The Commodity Credit Corporation (CCC) is removing obsolete references from its regulations requiring producers to obtain at least a catastrophic level of crop insurance for each crop of economic significance in order to be eligible for payment under certain programs, which are no longer in operation.

EFFECTIVE DATES: May 30, 2003.

FOR FURTHER INFORMATION CONTACT: Sharon Biastock (202) 720-6336.

SUPPLEMENTARY INFORMATION:

Executive Order 12866

This final rule is issued in conformance with Executive Order 12866 and has been determined to be not significant and therefore has not been reviewed by the Office of Management and Budget.

Regulatory Flexibility Act

It has been determined that Regulatory Flexibility Act is not applicable to this final rule because FSA is not required by 5 U.S.C. 553 or any other provisions of law to publish a notice of final rule making regarding the subject matter of this rule.

Environmental Evaluation

It has been determined by an environmental evaluation that this action will have no significant impact on the quality of the human environment. Therefore, neither an Environmental Assessment nor an Environmental Impact Statement is needed.

Executive Order 12988

This rule has been reviewed in accordance with Executive Order 12988. The provisions of this final rule preempt State laws to the extent such laws are inconsistent with the provisions of this rule.

Executive Order 12372

This activity is not subject to the provisions of Executive Order 12372, which requires intergovernmental consultation with State and local officials. See the notice related to 7 CFR part 3015, subpart V, published at 48 FR 29115 (June 24, 1983).

Unfunded Mandates Reform Act of 1995

This rule contains no Federal mandates under the provisions of Title II of the Unfunded Mandates Reform Act of 1995 (UMRA) for State, local, and tribal governments or the private sector. Thus, this rule is not subject to the requirements of sections 202 and 205 of UMRA.

Paperwork Reduction Act

This rule does not contain any new information collection requirements.

Executive Order 12612

It has been determined that this rule does not have sufficient Federalism implications to warrant the preparation of a Federalism Assessment. The provisions contained in this rule will not have a substantial direct effect on States or their political subdivisions, or on the distribution of power and responsibilities among the various levels of Government.

Discussion of the Final Rule

The Commodity Credit Corporation is amending its regulations at 7 CFR part 1405 to remove obsolete requirements that crop insurance be obtained in order to be eligible for USDA benefits under some programs. Section 508(b)(7) of the Federal Crop Insurance Act (FCIA) (7 U.S.C. 1508(b)(7)) provided that in order to be eligible for payments under the Agricultural Market Transition Act (7 U.S.C. 7201 note) (AMTA) the producer must obtain at least the catastrophic level of insurance for each crop of economic significance in which the producer has an interest or provide a written waiver to the Secretary that waives any eligibility for emergency crop loss assistance in connection with the crop, if insurance is available in the county for the crop. The AMTA programs, which included production flexibility contracts for wheat, feed grains, and upland cotton, 1996- through 2002-crop loans and loan deficiency payments for grains and similarly handled commodities and cotton, and the Sugar and Peanut Programs, ended September 30, 2002. The regulations for those programs were contained at 7 CFR parts 1412, 1421, 1427, 1435, 1443 and 1446 and were replaced by regulations for new programs under the Farm Security and Rural Investment Act of 2002 (7 U.S.C. 7901 note) (the 2002 Act). The 2002 Act did not include the requirement that producers obtain crop insurance in order to receive payments under the new programs and the Agency is therefore removing references to those parts from 7 CFR part 1405. Also, an unnecessary reference to 7 CFR part 1464, dealing with tobacco, is removed. Tobacco payments under 7 CFR part 1464 were at one time covered by a statutory tie to crop insurance, which has since been repealed. The crop insurance requirements for the Conservation Reserve Program and the Tobacco Program contained in 7 CFR part 1405 will remain as provided for in section 508(b)(7) of the FCIA. Some non-CCC loans and payments are also covered in section 508(b)(7) and are governed by other regulations. They are not impacted by this rule. This rule also does not impact crop-insurance ties to eligibility for CCC benefits that arise from provisions other than section 508(b)(7).

List of Subjects in 7 CFR Part 1405

Loan programs—agriculture

For the reasons set forth in the preamble, 7 CFR part 1405 is revised as set forth below.

PART 1405—LOANS, PURCHASES, AND OTHER OPERATIONS

1. The authority citation for Part 1405 is revised to read as follows:

Authority: 7 U.S.C. 1508; 15 U.S.C. 714b and 714c.

2. Amend § 1405.6(a) by revising the first sentence of the introductory text to read as follows:

§ 1405.6 Crop insurance requirement.

(a) To be eligible for any benefits or payments under 7 CFR part 1410 the producer must obtain at least the catastrophic level of insurance for each crop of economic significance in which the producer has an interest or provide a written waiver to the Secretary that waives any eligibility for emergency crop loss assistance in connection with the crop, if insurance is available in the county for the crop. * * *

Signed at Washington, DC on May 20, 2003.
James R. Little,
Executive Vice-President, Commodity Credit Corporation.

[FR Doc. 03-13246 Filed 5-29-03; 8:45 am]

BILLING CODE 3410-05-P